DEPARTMENT OF HOMELAND SECURITY

Coast Guard

33 CFR Part 165

[Docket No. USCG-2010-0256]

RIN 1625-AA00

Safety Zone; Neuse River, New Bern, NC; Correction

ACTION: Temporary final rule; correction.

SUMMARY: In the Federal Register published on April 23, 2010, the Coast Guard established a temporary safety zone on the waters of the Neuse River in support of the New Bern, North Carolina Tercentennial Celebration. The City of New Bern, North Carolina is sponsoring a civil war naval bombardment reenactment on the waters of the Neuse River, New Bern, North Carolina on May 8, 2010. The safety zone published with an error in the temporary safety zone coordinates. The safety zone coordinates should have read “35°06′12″ N; 077°02′12″ W thence to 35°05′52″ N; 077°02′15″ W thence to 35°05′49″ N; 077°01′49″ W thence to 35°06′17″ N; 077°01′48″ W thence to 35°06′21″ N; 077°02′06″ W”.

DATES: This correction is effective May 4, 2010.

FOR FURTHER INFORMATION CONTACT: For information about this correction, contact Jennifer Mehaffey, Office of Regulations and Administrative Law, (202) 372-3859 jennifer.a.mehaffey@uscg.mil. For information about the original regulation, contact CWO4 Stephen Lyons, Waterways Management Division Chief, Coast Guard Sector North Carolina; telephone (252) 247-4525, e-mail Stephen.W.Lyons@uscg.mil.

SUPPLEMENTARY INFORMATION: In FR doc 2010-9497 appearing on page 21164 in the issue of Friday, April 23, 2010, the following corrections are made:

1. In the Discussion of the Rule section on page 21165, in the second column, revise the temporary safety zone coordinates to read “35°06′12″ N; 077°02′12″ W thence to 35°05′52″ N; 077°02′15″ W thence to 35°05′49″ N; 077°01′49″ W thence to 35°06′17″ N; 077°01′48″ W thence to 35°06′21″ N; 077°02′06″ W”.

§ 165.T05-0256 [Corrected]

2. In the regulatory text on page 21166, third column, revise paragraph (b) safety zone coordinates to read “35°06′12″ N; 077°02′12″ W thence to 35°05′52″ N; 077°02′15″ W thence to 35°05′49″ N; 077°01′49″ W thence to 35°06′17″ N; 077°01′48″ W thence to 35°06′21″ N; 077°02′06″ W”.

Dated: April 29, 2010.
S. Venckus,
Office of Regulations and Administrative Law (CG-0943), U.S. Coast Guard.

[FR Doc. 2010-10496 Filed 4-30-10; 11:15 am]

BILLING CODE 9110-04-P